DEPARTMENT OF HOUSING AND URBAN DEVELOPMENT

[Docket No. FR-5030-FA-24]

Announcement of Funding Awards for Fiscal Year 2006; Tribal Colleges and Universities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year (FY) 2006 Tribal Colleges and Universities Program (TCUP). The purpose of this document is to announce the names and addresses of the award winners and the amount of the awards which are to be used to enable tribal colleges and universities to build, expand, renovate, and equip their own facilities, especially those that are available to and used by the larger community.

FOR FURTHER INFORMATION CONTACT: Susan Brunson, Office of University Partnerships, Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455 (Telephone number, other than “800” TTY numbers are not toll free).

SUPPLEMENTARY INFORMATION: The Tribal Colleges and Universities Program was enacted under section 107 of the CDBG appropriation for Fiscal Year 2006, as part of the “Veterans Administration, HUD and Independent Agencies Appropriations Act of 2006” and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities.

The Catalog Federal Domestic Assistance number for this program is 14.519.

On March 8, 2006 (71 FR 11775), HUD published a Notice of Funding Availability (NOFA) announcing the availability of $2.5 million in Fiscal Year (FY) 2006, plus an additional $643,000 that was carried over from last year's competition for the Tribal Colleges and Universities Program. The Department reviewed, evaluated and scored the applications received based on the criteria in the NOFA. As a result, HUD funded five applications.

The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2006; Tribal Colleges and Universities Program Funding Competition, by Institution, Address, and Grant Amount

Region VIII

1. Stone Child College, Ms. Melody Henry, Stone Child College, 1082 Bonneau Road, Box Elder, MT 59521. Grant: $600,000.

2. Fort Peck, Mr. Warren Means, Fort Peck, 605 Indian Street, Poplar, MT 59255. Grant: $600.000.

3. Little Big Horn College, Dr. David Yarlott, Little Big Horn, One Forestry Lane, Crow Agency, MT 59022. Grant: $600,000.

4. Turtle Mountain Community College, Mr. David Ripley, Turtle Mountain Community College, Center for Innovation, BIA Road, #7, Belcourt, ND 58316. Grant: $600,000.

5. Dine College, Mr. Cameron Dines, Dine College, 01 Circle Drive Navajo Route 12 Box 188, Tsaile, AZ 86556-0188. Grant: $600,000.

Dated: September 21, 2006.
Darlene F. Williams,
Assistant Secretary.

[FR Doc. E6-16856 Filed 10-11-06; 8:45 am]

BILLING CODE 4210-67-P